DEPARTMENT OF COMMERCE

National Oceanic and Atmospheric Administration

50 CFR Part 660

[Docket No. 100804324-1265-02]

RIN 0648-BC61

Magnuson-Stevens Act Provisions; Fisheries Off West Coast States; Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: Effective 0001 hours (local time) November 1, 2012.

FOR FURTHER INFORMATION CONTACT: Colby Brady (Northwest Region, NMFS), phone: 206-526-6117, fax: 206-526-6736, colby.brady@noaa.gov.

SUPPLEMENTARY INFORMATION:

Electronic Access

This final rule is accessible via the Internet at the Office of the Federal Register's Web site at http://www.gpo.gov/fdsys/search/home.action. Background information and documents are available at the Pacific Fishery Management Council's Web site at http://www.pcouncil.org/.

Background

The Pacific Coast Groundfish FMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS. On November 3, 2010, NMFS published a proposed rule to implement the 2011-2012 harvest specifications and management measures for most species of the Pacific Coast groundfish fishery (75 FR 67810). The final rule to implement the 2011-12 harvest specifications and management measures for most species of the Pacific Coast Groundfish Fishery was published on May 11, 2011 (76 FR 27508). This final rule was subsequently amended by several inseason actions (76 FR 39313, 76 FR 67092, 76 FR 79122, 77 FR 12503, 77 FR 22679, 77 FR 24634, 77 FR 47322). On September 27, 2011, NMFS published a proposed rule to implement final 2012 specifications for overfished species and assessed flatfish species pursuant to Secretarial Amendment 1 to the Groundfish FMP (76 FR 59634). That final rule was effective January 1, 2012.

The Council, in consultation with Pacific Coast Treaty Indian Tribes and the States of Washington, Oregon, and California, recommended the changes to current groundfish management measures implemented by this action at its September 12-September 17, 2012 meeting. The Council recommended adjusting groundfish management measures for the remainder of the biennial period to respond to updated fishery information and additional inseason management needs. The adjustments to fishery management measures are not expected to result in greater impacts to overfished species than originally projected through the end of 2012. Estimated mortality of overfished and target species is the result of management measures designed to achieve, to the extent possible, but not exceed, annual catch limits (ACLs) of target species while fostering the rebuilding of overfished stocks by remaining within their rebuilding ACLs.

Open Access (OA) Fixed Gear Fishery Management Measures

Sablefish Daily Trip Limit (DTL) Trip Limits South of 36° N. Lat.

To ensure harvest opportunities for the OA fixed gear sablefish DTL fishery, and that its harvest guideline south of 36° N. lat. is further attained, the Council considered increases to trip limits for sablefish in this fishery and the potential impacts on overall catch levels. The Council's Groundfish Management Team (GMT) made model-based landings projections of the OA fixed gear sablefish DTL fishery south of 36° N. lat. for the remainder of 2012. These projections were based on the most recent information available under the current 2012 trip limit scenario, and predicted a harvest projection of 41 percent (126 mt) of this fishery's harvest guideline (309 mt) under the status quo trip limits. Landings projections with the proposed increased trip limits predict a harvest of 52 percent (161 mt) of this fishery's harvest guideline. Projections for the other three fixed gear sablefish fisheries were tracking within their targets for 2012.

Therefore, the Council recommended and NMFS is implementing trip limit changes for the OA fixed gear sablefish DTL fishery south of 36° N. lat. that increase OA fixed gear sablefish DTL fishery limits from “300 lb per day (136 kg), or one landing per week of up to 1,350 lb (612 kg), not to exceed 2,700 lb (1225 kg) per two months” to “350 lb (159 kg) per day, or one landing per week of up to 1,750 lb (794 kg), not to exceed 3,500 lb (1,588 kg) per 2 months” beginning in period 6, November 1, 2012 through the end of the year.

Recreational Fishery Management Measures

California Southern Management Area (SMA) Rockfish Conservation Area (RCA) Adjustments South of 34°27′ N. Lat.

Due to uncertainty in the catch estimates, and to reduce the potential for cowcod mortality to exceed the non-trawl allocation in 2012, the Council considered modifications to the current SMA RCA boundary. Recreational fishing for most groundfish is currently prohibited seaward of a boundary line approximating the 60 fathom depth (110 meters) contour in California south of 34°27′ N. lat. The new boundary would expand the closed area, restricting fishing to the area seaward of a boundary line approximating the 50 fathom depth (91 meters) contour, south of 34°27′ N. lat., beginning November 1, 2012, through December 31, 2012 (period 6). The Council considered this change as a precautionary measure to address uncertainty in the catch estimates, and to reduce the potential for cowcod mortality to exceed the non-trawl allocation in 2012.

Therefore, the Council recommended and NMFS is implementing a shift to the seaward boundary line of the recreational Rockfish Conservation Area in the Southern Management Area south of 34°27′ N. lat. from the 60 fathom depth contour (110 meters) to the 50 fathom depth contour (91 meters), beginning November 1, 2012, through December 31, 2012 (period 6).

Classification

This final rule makes routine inseason adjustments to groundfish fishery management measures based on the best available information and is consistent with the Pacific Coast Groundfish FMP and its implementing regulations.

This action is taken under the authority of 50 CFR 660.60(c) and is exempt from review under Executive Order 12866.

These inseason changes in sablefish limits and recreational RCAs are based on the most recent data available. The aggregate data upon which these actions are based are available for public inspection at the Office of the Administrator, Northwest Region, NMFS, during business hours.

For the following reasons, NMFS finds good cause to waive prior public notice and comment on the revisions to groundfish management measures under 5 U.S.C. 553(b) because notice and comment would be impracticable and contrary to the public interest. Also, for the same reasons, NMFS finds good cause to partially waive the 30-day delay in effectiveness pursuant to 5 U.S.C. 553(d)(3), so that this final rule may become effective November 1, 2012.

At the September Council meeting, the Council recommended that these changes, which are based on the most recent information available, be implemented by November 1, 2012. There was not sufficient time after that meeting to draft this document and undergo proposed and final rulemaking before these actions need to be in effect. For the actions to be implemented in this final rule, affording the time necessary for prior notice and opportunity for public comment would prevent NMFS from managing fisheries using the best available science to approach, without exceeding, the ACLs for federally managed species in accordance with the FMP and applicable law. The adjustments to management measures in this document affect commercial and recreational fisheries in southern California. These adjustments to management measures must be implemented in a timely manner, by November 1, 2012, to: allow OA fixed gear fishermen an opportunity to harvest their limits in 2012 for sablefish without exceeding the ACL south of 36° N. lat.; and to allow recreational fishermen continued opportunities to harvest abundant species, while reducing the potential for cowcod mortality to exceed the non-trawl allocation in 2012. These changes in the OA fixed gear fishery south of 36° and recreational fishery south of 34°27′ N. lat. will continue to allow fishermen opportunities to harvest available healthy stocks while staying within the ACLs for target and overfished species. If this rule is not implemented immediately, the public could have incorrect information regarding allowed OA fixed gear trip limits south of 36°, and recreational rockfish conservation area boundaries south of 34°27′ N. lat. which would cause confusion and be inconsistent with the Council's intent. It would be contrary to the public interest to delay implementation of these changes until after public notice and comment, because making this regulatory change by November 1, 2012, allows harvest as intended by the Council in fisheries that are important to coastal communities in a manner that prevents ACLs of overfished and target species from being exceeded.

No aspect of this action is controversial and no change in operating practices in the fishery is required from those intended in this inseason adjustment.

Delaying these changes would also keep management measures in place that are not based on the best available information. Such delay would impair achievement of the Pacific Coast Groundfish FMP goals and objectives of managing for appropriate harvest levels while providing for year-round fishing and marketing opportunities.

Accordingly, for the reasons stated above, NMFS finds good cause to waive prior notice and comment and to partially waive the delay in effectiveness.

List of Subjects in 50 CFR Part 660

Fisheries, Fishing, Indian Fisheries.

Dated: October 12, 2012.
Emily H. Menashes,
Deputy Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 3 (South) to part 660, subpart F is revised to read as follows:

BILLING CODE 3510-22-P

3. In § 660.360, paragraph (c)(3)(i)(A)(5) is revised to read as follows:

§ 660.360 Recreational fishery-management measures.

* * * * *

(c) * * *

(3) * * *

(i) * * *

(A) * * *

(5) South of 34°27′ N. lat. (Southern Management Area), recreational fishing for all groundfish (except California scorpionfish as specified below in this paragraph and in paragraph (c)(3)(v) of this section and “other flatfish” as specified in paragraph (c)(3)(iv) of this section) is prohibited seaward of a boundary line approximating the 50 fm (91.5 m) depth contour from March 1 through December 31 along the mainland coast and along islands and offshore seamounts, except in the CCAs where fishing is prohibited seaward of the 20 fm (37 m) depth contour when the fishing season is open (see paragraph (c)(3)(i)(B) of this section). Recreational fishing for all groundfish (except California scorpionfish and “other flatfish”) is closed entirely from January 1 through February 28 (i.e., prohibited seaward of the shoreline). Recreational fishing for California scorpionfish south of 34°27′ N. lat. is prohibited seaward of a boundary line approximating the 50 fm (91.5 m) depth contour from January 1 through December 31, except in the CCAs where fishing is prohibited seaward of the 20 fm (37 m) depth contour when the fishing season is open.

* * * * *

[FR Doc. 2012-25566 Filed 10-16-12; 8:45 am]

BILLING CODE 3510-22-C